DEPARTMENT OF TRANSPORTATION

Federal Transit Administration

Environmental Impact Statement on the South Central Corridor Light Rail Transit Project in Metropolitan Louisville, Kentucky

AGENCY: Federal Transit Administration, USDOT.

ACTION: Notice of Intent to prepare an Environmental Impact Statement (EIS).

SUMMARY: The Federal Transit Administration (FTA), in cooperation with the Transit Authority of River City (TARC), intends to prepare an Environmental Impact Statement (EIS) for the Louisville South Central Corridor Rapid Transit Project in accordance with the National Environmental Policy Act (NEPA).

The EIS will consider alternatives for improving rapid transit service within an approximately 15-mile-long corridor that begins at the Ohio River in the Louisville Central Business District (CBD) and proceeds through the Medical Center; through Smoketown and Shelby Park; through the University of Louisville campus and the Louisville International Airport and ends on the west side of I-65 near the Gene Snyder Freeway/Interstate 65 interchange.

The EIS will evaluate the following alternatives: a No-Build Alternative, a Transportation Systems Management (TSM) Alternative consisting of low to medium cost improvements to local bus services and facilities, Light Rail Transit (LRT) Alternatives, any additional reasonable alternatives identified during the EIS scoping process. The LRT alternatives will include a supporting bus plan.

The Major Investment Study (MIS) for this project, the Transportation Tomorrow (T2) Major Investment Study, was completed by TARC in November 1998. A corridor refinement study was completed in August 2000. Other previous studies leading to the proposed LRT include: the 1993 TARC Transitional Study that recommended two priority corridors, including the South Central Corridor, for detailed consideration of alternative transit improvements; the 1995 KIPDA Regional Mobility 2010 Transportation Plan; and the Phase 1 systemwide plan re-examination that resulted in the 1997 selection of the South Central Corridor as the priority corridor for the MIS.

Scoping will be accomplished through meetings and correspondence with interested persons and businesses, organizations, the general public, federal and state agencies.

DATES: Comment Due Date: Written comments on the range of alternatives and impacts to be considered must be postmarked no later than December 29, 2000 and should be sent to the Transit Authority of River City. See ADDRESSES below. Scoping Meetings: Two public scoping meetings will be held:

(1) November 29, 2000 from 12:00 noon until 2:00 p.m., at the Jefferson County Court House, Room 402, 527 West Jefferson Street, and

(2) November 29, 2000 from 6:00 p.m. until 8:00 p.m. at Holy Name Church Gymnasium, 2921 South Fourth Street.

A brief presentation of the project purpose and alternatives will be provided at the beginning of each meeting. TARC and consultant staff will be present to take agency and public input regarding the scope of the environmental studies, key issues, and other suggested alternatives. Both locations are accessible to disabled citizens and both meeting will be signed for the hearing impaired.

ADDRESSES: Written comments should be sent to: Bill Sexton, P.E., Project Director, TARC, 1000 West Broadway, Louisville, KY 40203. The addresses for the public scoping meetings are provided above under DATES. For additional information about the scoping meetings such as directions to the meeting sites, or to be placed on the project mailing list for future project information, please contact Nina Walfoort, Project Outreach Manager, at 1000 West Broadway, Louisville, Kentucky, by phone at 502-561-5122 or by e-mail at nwalfoort@ridetarc.org.

FOR FURTHER INFORMATION CONTACT: Mr. Anthony Dittmeier, Federal Transit Administration, Region IV at (404) 562-3512.

SUPPLEMENTARY INFORMATION:

I. Description of Project Area

The FTA, as joint lead agency with TARC, plans to prepare an EIS on a proposal to improve rapid transit service within an approximately 15-mile-long corridor beginning at the Ohio River in the Louisville Central Business District (CBD) and extending south to just north of the Gene Snyder Freeway. In addition to the CBD, the project would serve the Medical Center, Smoketown, Shelby Park, Old Louisville, the University of Louisville Student Center and Stadium, the Kentucky Fair and Exposition Center, Louisville International Airport, UPS, Ford Motor Company, and park-and-ride lots near the Outer Loop and the Gene Snyder Freeway. The environmental impact analysis will build upon previous evaluations of route and mode alternatives conducted over the past seven years as well as the current work directed to refine the recently completed MIS. The corridor refinement study determined a more specific alignment as well as the locally preferred mode, Light Rail Transit (LRT), for future analyses. TARC will perform alignment refinements; identify transit station and stop locations and design concepts; identify alternative storage yard locations; define right of way requirements and costs; identify the maximum service potential of the LRT alternative in the context of enhanced, integrated feeder and background bus systems; and prepare, with FTA, a Draft EIS.

II. Project Purpose and Need

The primary project purpose is to improve rapid transit service in this rapidly growing corridor by providing increased transit capacity and faster, convenient access between and among the Louisville Central Business District; the Louisville Medical Center; the Smoketown, Shelby Park, and the Old Louisville neighborhoods; the University of Louisville; Louisville International Airport; and the developing areas south of the airport. Associated needs include the following: enhancing regional connectivity by maximizing rail/bus integration; accommodating future travel demand by expanding modal options to provide an alternative to the growing traffic congestion in the I-65 corridor and on major north-south streets; improving regional air quality by reducing auto emissions; improving mobility options to employment, education, medical, and retail centers for corridor residents, in particular low-income, youth, elderly, disabled, and ethnic minority populations; and supporting local community economic development goals through coordinated transit and land use planning.

III. Alternatives

The No-Build Alternative will consist of all presently programmed projects, that is, existing and fiscally committed elements of the Region's Transportation Improvement Plan for this corridor and nearby areas.

The TSM Alternative will include low to medium capital cost bus system enhancements and traffic engineering, signalization, and other modes capital improvements in addition to the programmed projects included in the No-Build Alternative. The bus service enhancements are expected to include new routes, more frequent service on existing routes, new bus shelters, and new buses.

The LRT Alternative would provide light rail rapid transit service in the South Central (Preston Street/I-65) Corridor from the Louisville CBD to a terminus in the vicinity of the I-65/Gene Snyder Freeway interchange. Stations or stops would be provided at key transfer points to connect the line with communities to the east and west. Several of these stations would include park-and-ride facilities. The proposed station locations were determined as a part of the recently completed MIS refinement effort. A vehicle storage facility also would be included. Final locations for the stations/stops and storage facility would be determined as part of the environmental studies based on operational requirements; availability of land and costs; neighborhood and site compatibility and development potential; proximity to major activity centers; and, traffic circulation and access considerations. Additional reasonable alternatives identified during scoping, including alignment alternatives, alternative station locations, and alternative sites for the rail storage and maintenance facility, also will be evaluated.

IV. Probable Effects

Impacts proposed for analysis include changes in the physical environment (natural resources, air quality, noise, water quality, geology, wetlands, visual); changes in the social environment (land use, business and neighborhood disruptions, environmental justice issues); changes in traffic and pedestrian circulation; impacts on parklands and historic sites; changes in transit service and patronage; associated changes in highway congestion; capital, operating, maintenance costs; and financial implications. Impacts will be identified both for the construction period and for the long-term operation of the alternatives. The primary evaluation of the alternatives will focus on the extent to which an alternative meets or promotes the project purpose and need. In addition, FTA's national evaluation criteria include: transportation; environmental; social, economic, and financial measures as required by current federal (NEPA) and state environmental laws and by Council on Environmental Quality (CEO) and FTA guidelines.

The TSM and LRT alternatives are expected to increase ridership, and therefore may improve air quality and reduce automobile traffic congestion in the South Central Corridor. Possible adverse effects of these alternatives include localized traffic congestion or delay, property acquisition/displacement, visual, noise/vibration, wetlands, natural resources, hazardous materials, and temporary construction-phase impacts. Mitigating measures will be explored for identified adverse effects.

V. Scoping

To ensure that the full range of issues related to this proposed action are addressed and all significant issues identified, comments and suggestions are invited from all interested parties. Letters describing the proposed action and soliciting comments were sent to the appropriate federal, state and local agencies, and to private organizations and citizens who have expressed or are known to have interest in this proposal. Copies of the scoping package are available from TARC upon request by calling, emailing, or writing Nina Walfoort as provided above in the ADDRESSES section. During scoping, comments should focus on identifying specific social, economic, or environmental impacts to be evaluated, and suggesting alternatives that are less costly or less environmentally damaging that achieve similar transit objectives. Comments should focus on the issues and alternatives for analysis, and not on a preference for a particular alternative. Comments or questions concerning this proposed action and the EIS may be made at the public scoping meeting or in writing directed to TARC at the address provided above. Written comments must be postmarked no later than December 29, 2000.

VI. FTA Procedures

In accordance with Federal transportation planning regulations and environmental procedures (40 CFR Part 1500-1508 and 23 CFR Part 771), the Draft EIS will be prepared and circulated to solicit public and agency comments on the proposed action. Based on the comments received on the Draft EIS, TARC will prepare the Final EIS. Opportunity for public comment will be provided throughout this project development process.

Issued on: October 18, 2000.
Jerry Franklin,
Region IV Administrator.

[FR Doc. 00-27230 Filed 10-23-00; 8:45 am]

BILLING CODE 4910-57-P